FEDERAL LABOR RELATIONS AUTHORITY

Privacy Act of 1974; System of Records

AGENCY: Federal Labor Relations Authority.

ACTION: Notice of a modified system of records.

SUMMARY: The “Freedom of Information Act Request and Appeal Files” is the system that the Federal Labor Relations Authority (FLRA) uses to provide the public with a single location to submit and track Freedom of Information Act (FOIA) requests and appeals filed with the FLRA, to manage internal FOIA administration activities, and to collect data for annual reporting requirements to the Department of Justice. FLRA's prior system, FOIAOnline, was recently decommissioned. Under the Privacy Act of 1974, FLRA's Chief FOIA Officer proposes to update the system of records, titled “Freedom of Information Act Request and Appeal Files,” with information about FLRA's new FOIA system, FOIAXPress. This notice replaces the notice FLRA published on October 27, 2017 at 82 FR 49813.

DATES: This notice action shall be applicable immediately, which will become effective January 26, 2024.

Comments will be accepted on or before: January 26, 2024.

ADDRESSES: You may send comments, which must include the caption “SORN Notice,” by one of the following methods:

Email: SolMail@flra.gov. Include “SORN Notice” in the subject line of the message.

Mail: Thomas Tso, Chief FOIA Officer, Federal Labor Relations Authority, 1400 K Street NW, Washington, DC 20424-0001.

Instructions: Do not mail written comments if they have been submitted via email. Interested persons who mail written comments must submit an original and 4 copies of each written comment, with any enclosures, on 8½ x 11 inch paper. Do not deliver comments by hand.

FOR FURTHER INFORMATION CONTACT: If you have any questions, please contact Thomas Tso, Solicitor, Chief FOIA Officer, at (771) 444-5779.

SUPPLEMENTARY INFORMATION: Apart from some minor technical corrections and updates, the only substantive change to the prior notice relates to the replacement of FOIAOnline with FOIAXPress, a commercial off-the-shelf product, for managing FLRA's FOIA program. FOIAXPress will shift storage of records to a FedRAMP-certified third-party cloud environment.

SYSTEM NAME AND NUMBER:

Freedom of Information Act Request and Appeal Files, FLRA/Internal-17.

SECURITY CLASSIFICATION:

Not applicable.

SYSTEM LOCATION:

FLRA Headquarters, Office of the Solicitor.

SYSTEM MANAGER(S):

Chief FOIA Officer, Office of the Solicitor, Federal Labor Relations Authority, 1400 K St. NW, Washington, DC 20424.

AUTHORITY FOR MAINTENANCE OF THE SYSTEM:

Freedom of Information Act, 5 U.S.C. 552.

PURPOSE(S) OF THE SYSTEM:

To provide the public with a single location to submit and track FOIA requests and appeals filed with the FLRA, to manage internal FOIA administration activities, and to collect data for annual reporting requirements to the Department of Justice.

CATEGORIES OF INDIVIDUALS COVERED BY THE SYSTEM:

All persons requesting information or filing appeals under the Freedom of Information Act.

CATEGORIES OF RECORDS IN THE SYSTEM:

A copy of each Freedom of Information Act (FOIA) request received by the FLRA and a copy of all correspondence related to the request, including the requesters' names, mailing addresses, email addresses, phone numbers, Social Security Numbers, dates of birth, any aliases used by the requesters, alien numbers assigned to travelers crossing national borders, requesters' parents' names, user names and passwords for registered users, FOIA tracking numbers, dates requests are submitted and received, related appeals, and agency responses. Records also include communications with requesters, internal FOIA administrative documents (e.g., billing invoices) and responsive records.

RECORD SOURCE CATEGORIES:

Information in this system of records is provided by FLRA employees and FOIA requesters.

ROUTINE USES OF RECORDS MAINTAINED IN THE SYSTEM, INCLUDING CATEGORIES OF USERS AND PURPOSES OF SUCH USES:

In addition to the disclosure generally permitted under 5 U.S.C. 552a(b) of the Privacy Act, these records or information in these records may be used pursuant to 5 U.S.C. 552a(b)(3):

a. To disclose pertinent information to the appropriate Federal, State, or local agency responsible for investigating, prosecuting, enforcing, or implementing a statute, rule, regulation, or order, when the FLRA becomes aware of an indication of a violation or potential violation of civil or criminal law or regulation.

b. To provide information to a congressional office from the record of an individual in response to an inquiry from that congressional office made at the request of that individual.

c. In an appropriate proceeding before a court, grand jury, or administrative or adjudicative body, when the FLRA determines that the records are arguably relevant to the proceeding, or in an appropriate proceeding before an administrative or adjudicative body when the adjudicator determines the records to be relevant to the proceeding.

d. To a Federal, State, local, or foreign agency or entity for the purpose of consulting with that agency or entity to enable the FLRA to make a determination as to the propriety of access to or correction of information, or for the purpose of verifying the identity of an individual or the accuracy of information submitted by an individual who has requested access to or amendment of information.

e. To a Federal agency or entity that furnished the record or information for the purpose of permitting that agency or entity to make a decision as to access to or correction of the record or information, or to a Federal agency or entity for purposes of providing guidance or advice regarding the handling of particular requests.

f. To a submitter or subject of a record or information in order to obtain assistance to the FLRA in making a determination as to access or amendment.

g. To a Member of Congress or staff acting upon the Member's behalf when the Member or staff requests the information on behalf of, and at the request of, the individual who is the subject of the record.

h. To disclose information to the National Archives and Records Administration, the Office of Government Information Services (OGIS), to the extent necessary to fulfill its responsibilities in 5 U.S.C. 552(h), to review administrative agency policies, procedures and compliance with FOIA, and to facilitate OGIS's offering of mediation services to resolve disputes between persons making FOIA requests and administrative agencies.

i. To appropriate agencies, entities, and persons when (1) the FLRA suspects or has confirmed that there has been a breach of the system of records; (2) the FLRA has determined that as a result of the suspected or confirmed breach there is a risk of harm to individuals, the FLRA (including its information systems, programs, and operations), the Federal Government, or national security; and (3) the disclosure made to such agencies, entities, and persons is reasonably necessary to assist in connection with the FLRA's efforts to respond to the suspected or confirmed breach or to prevent, minimize, or remedy such harm.

j. To another Federal agency or Federal entity, when the FLRA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

k. To contractors, grantees, experts, consultants, students, and others performing or working on a contract, service, grant, cooperative agreement, or other assignment for the federal government, when necessary to accomplish an agency function related to this system of records.

l. To such recipients and under such circumstances and procedures as are mandated by federal statute, regulation, or treaty.

POLICIES AND PRACTICES FOR STORAGE OF RECORDS:

Records received using FOIAXPress, a commercial off-the-shelf product, are maintained in a secure, password-protected FedRAMP-certified third-party cloud environment, which utilizes security hardware and software, including multiple firewalls, active intruder detection, and role-based accessed controls. The contracts are maintained by FLRA at 1400 K Street NW, Washington, DC 20424. Any paper records are stored in secure FLRA offices and/or lockable file cabinets.

POLICIES AND PRACTICES FOR RETRIEVAL OF RECORDS:

Requests are retrieved from the FLRA's FOIAXPress system by numerous data elements and key word searches, including name, agency, dates, subject, FOIA tracking number, and other information retrievable with full-text searching capability.

POLICIES AND PRACTICES FOR RETENTION AND DISPOSAL OF RECORDS:

FOIA records are maintained for three years or longer, in accordance with item 001 of General Records Schedule 4.2, as approved by the Archivist of the United States. Disposal is by shredding and/or by deletion of the electronic record.

ADMINISTRATIVE, TECHNICAL, AND PHYSICAL SAFEGUARDS:

Computer records are maintained in a secure, password-protected computer system. Paper records are maintained in secure offices or lockable file cabinets. All records are maintained in secure, access-controlled areas or buildings.

RECORD ACCESS PROCEDURES:

Individuals wishing access to records about them should contact the System Manager. Individuals must furnish the following information for their records to be located and identified: a. Full name.

b. Approximate date of FOIA request or appeal.

Individuals requesting access must comply with the FLRA's Privacy Act regulations regarding access to records (5 CFR 2412).

CONTESTING RECORD PROCEDURES:

Individuals wishing to request amendment of records about them should contact the System Manager. Individuals must furnish the following information for their records to be located and identified:

a. Full name.

b. Approximate date of FOIA request or appeal.

Individuals requesting amendment must follow the FLRA's Privacy Act regulations regarding amendment of records (5 CFR 2412).

NOTIFICATION PROCEDURES:

Individuals wishing to determine whether this system of records contains information about them should contact the System Manager. Individuals must furnish the following for their records to be located and identified:

a. Full name.

b. Approximate date of FOIA request or appeal.

Individuals making inquiries must comply with the FLRA's Privacy Act regulations regarding the existence of records (5 CFR 2412).

EXEMPTIONS PROMULGATED FOR THE SYSTEM:

None.

HISTORY:

This system of records was last published at 82 FR 49813 (October 27, 2017).

Thomas Tso,
Solicitor, Federal Register Liaison, and Chief FOIA Officer, Federal Labor Relations Authority.

[FR Doc. 2023-28553 Filed 12-26-23; 8:45 am]

BILLING CODE 7627-01-P